DEPARTMENT OF ENERGY

Federal Energy Regulatory Commission

[Project No. 2710-035]

PPL Maine, LLC; Notice of Application Tendered for Filing With the Commission, Soliciting Additional Study Requests, Waiving Three Stage Consultation, and Establishing an Expedited Schedule for Relicensing and Deadline for Submission of Final Amendments

July 9, 2004.

Take notice that the following hydroelectric application has been filed with the Commission and is available for public inspection.

a. Type of Application: New major license.

b. Project No.: P-2710-035.

c. Date filed: June 25, 2004.

d. Applicant: PPL Maine, LLC.

e. Name of Project: Orono Hydroelectric Project.

f. Location: On the Stillwater Branch of the Penobscot River, near the town of Buxton, Penobscot County, Maine. This project does not occupy Federal lands.

g. Filed Pursuant to: Federal Power Act 16 U.S.C. 791(a)—825(r).

h. Applicant Contact: Mr. Scott Hall, PPL Maine, LLC, Davenport Street, PO Box 276, Milford, Maine 04461, (207) 827-5364.

i. FERC Contact: Ed Lee, ed.lee@ferc.gov, (202) 502-6082.

j. Cooperating Agencies: We are asking Federal, State, and local agencies and Indian tribes with jurisdiction and/or special expertise with respect to environmental issues to cooperate with us in the preparation of the environmental document. Agencies who would like to request cooperating status should follow the instructions for filing comments described in item k below.

k. Pursuant to section 4.32(b)(7) of 18 CFR of the Commission's regulations, if any resource agency, Indian tribe, or person believes that an additional scientific study should be conducted in order to form a factual basis for complete analysis of the application on its merits, the resource agency, Indian tribe, or person must file a request for the study with the Commission no later than 60 days from the application filing date, and serve a copy of the request on the applicant.

l. Deadline for filing additional study requests and requests for cooperating agency status: August 24, 2004.

All documents (original and eight copies) should be filled with: Magalie R. Salas, Secretary, Federal Energy Regulatory Commission, 888 First Street, NE., Washington, DC 20426

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests may be filed electronically via the Internet in lieu of paper. The Commission strongly encourages electronic filing. See 18 CFR 385.2001(a)(1)(iii) and the instructions on the Commission's Web site (http://www.ferc.gov) under the “e-Filing” link. After logging into the e-Filing system, select “Comment on Filing” from the Filing Type Selection screen and continue with the filing process.”

m. The application is not ready for environmental analysis at this time.

n. Project Description: The Orono Hydroelectric Project consists of the following facilities: (1) The existing 1,174-foot-long by 15-foot-high dam with 2.4-foot-high flashboards; (2) a 2.3-mile-long reservoir, which has a surface area of 175 acres at the normal full pond elevation of 72.4 feet above mean sea level; (3) three new 10-foot-diameter penstocks; (4) a new restored powerhouse containing four generating units with total installed generating capacity of 2.3 megawatts (MW); and (4) appurtenant facilities. The restored project would have an average annual generation of 17,821 megawatt-hours. The dam and existing project facilities are owned by the applicant.

o. A copy of the application is on file with the Commission and is available for public inspection. This filing may also be viewed on the Web at http://www.ferc.gov using the “eLibrary” link. Enter the docket number, excluding the last three digits in the docket number filed to access the documents. For assistance, please contact FERC Online Support at FERCOnlineSupport@ferc.gov or toll free at (866) 208-3676 or for TTY, contact (202) 502-8659. A copy is also available for inspection and reproduction at the address in item h above.

p. You may also register online at http://www.ferc.gov/esubscribenow.htm to be notified via email of new filings and issuances related to this or other pending projects. For assistance, contact FERC Online Support.

q. With this notice, we are initiating consultation with the Maine State Historic Preservation Officer (SHPO), as required by § 106, National Historic Preservation Act, and the regulations of the Advisory Council on Historic Preservation, 36 CFR part 800.4.

r. Procedural Schedule and Final Amendments: We intend to waive the standard 3-stage consultation process (18 CFR 4.38), as requested by the applicant and agencies, because this application is filed in accordance with the “Lower Penobscot River Multiparty Settlement Agreement”. We also intend to substitute the pre-filing consultation process that has occurred on this project for our standard National Environmental Policy Act scoping process. The application will be processed according to the following schedule. Commission staff propose to issue a single environmental assessment rather than issue a draft and final EA. Revisions to the schedule will be made as appropriate.

Issue Acceptance or Deficiency Letter—September 2004

Notice that application is ready for environmental analysis—September 2004

Notice of the availability of the EA—November 2004

Ready for Commission decision on the application—December 2004

Final amendments to the application must be filed with the Commission no later than 30 days from the issuance date of the notice of ready for environmental analysis.

Magalie R. Salas,
Secretary.

[FR Doc. E4-1572 Filed 7-14-04; 8:45 am]

BILLING CODE 6717-01-P